DEPARTMENT OF ENERGY

Federal Energy Regulatory Commission

Combined Notice of Filings No. 1

Take notice that the Commission has received the following Natural Gas Pipeline Rate and Refund Report filings:

Docket Numbers: RP11-1793-000.

Applicants: Bobcat Gas Storage.

Description: Bobcat Gas Storage submits tariff filing per 154.204: Netting and Trading Standards to be effective 3/25/2011.

Filed Date: 02/23/2011.

Accession Number: 20110223-5052.

Comment Date: 5 p.m. Eastern Time on Monday, March 07, 2011.

Docket Numbers: RP11-1794-000.

Applicants: CenterPoint Energy Gas Transmission Company, LLC.

Description: CenterPoint Energy Gas Transmission Company, LLC submits tariff filing per 154.204: CEGT LLC—Negotiated Rate—April 1—CERC—Oklahoma to be effective 4/1/2011.

Filed Date: 02/23/2011.

Accession Number: 20110223-5103.

Comment Date: 5 p.m. Eastern Time on Monday, March 07, 2011.

Docket Numbers: RP11-1795-000.

Applicants: Gulfstream Natural Gas System, L.L.C.

Description: Gulfstream Natural Gas System, L.L.C. submits tariff filing per 154.203: Negotiated Rate Agreement Compliance Filing under CP10-4 Florida Power Corp to be effective 4/1/2011.

Filed Date: 02/23/2011.

Accession Number: 20110223-5111.

Comment Date: 5 p.m. Eastern Time on Monday, March 07, 2011.

Docket Numbers: RP11-1796-000.

Applicants: Algonquin Gas Transmission, LLC.

Description: Algonquin Gas Transmission, LLC submits tariff filing per 154.204: Name Change for Mirant Canal to be effective 3/25/2011.

Filed Date: 02/23/2011.

Accession Number: 20110223-5161.

Comment Date: 5 p.m. Eastern Time on Monday, March 07, 2011.

Docket Numbers: RP11-1797-000.

Applicants: Sabine Pipe Line LLC.

Description: Sabine Pipe Line LLC submits tariff filing per 154.204: Sabine Pipe Line LLC FRP & UFRP Tariff Filing to be effective 4/1/2011.

Filed Date: 02/24/2011.

Accession Number: 20110224-5046.

Comment Date: 5 p.m. Eastern Time on Tuesday, March 08, 2011.

Docket Numbers: RP11-1798-000.

Applicants: CenterPoint Energy Gas Transmission Company, LLC.

Description: CenterPoint Energy Gas Transmission Company, LLC submits tariff filing per 154.204: CEGT LLC—Negotiated Rate—April 1—CERC—Arkansas to be effective 4/1/2011.

Filed Date: 02/24/2011.

Accession Number: 20110224-5063.

Comment Date: 5 p.m. Eastern Time on Tuesday, March 08, 2011.

Docket Numbers: RP11-1799-000.

Applicants: Freebird Gas Storage, L.L.C.

Description: Freebird Gas Storage, L.L.C. submits tariff filing per 154.602: Freebird Gas Storage Cancellation Filing to be effective 2/25/2011.

Filed Date: 02/24/2011.

Accession Number: 20110224-5072.

Comment Date: 5 p.m. Eastern Time on Tuesday, March 08, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: February 24, 2011.
Nathaniel J. Davis, Sr.,
Deputy Secretary.

[FR Doc. 2011-4839 Filed 3-3-11; 8:45 am]

BILLING CODE 6717-01-P